DEPARTMENT OF ENERGY

Federal; Energy Regulatory Commission

[Docket No. RP00-426-001]

Texas Gas Transmission Corporation; Notice of Compliance Filing

October 4, 2000.

Take notice that on September 29, 2000, Texas Gas Transmission Corporation (Texas Gas) tendered for filing as part of its FERC Gas Tariff, First Revised Volume No. 1, the following tariff sheets to become effective:

Substitute Sixth Revised Sheet No. 235

Substitute Fourth Revised Sheet No. 236

In this compliance filing, Texas Gas hereby provides the clarifications and/or tariff modifications required by the August 31, 2000 Order of the Commission.

Texas Gas states that copies of the revised tariff sheets are being mailed to Texas Gas's jurisdictional customers, interested state commissions, and those persons appearing on the official service list.

Any person desiring to protest said filing should file a protest with the Federal Energy Regulatory Commission, 888 First Street, NE., Washington, DC 20426, in accordance with Section 285.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-26046 Filed 10-10-00; 8:45 am]

BILLING CODE 6717-01-M